DEPARTMENT OF TRANSPORTATION

Federal Aviation Administration

14 CFR Part 39

[Docket No. FAA-2021-0662; Project Identifier MCAI-2021-00031-E]

RIN 2120-AA64

Airworthiness Directives; Rolls-Royce Deutschland Ltd & Co KG (Type Certificate Previously Held by Rolls-Royce plc) Turbofan Engines

AGENCY: Federal Aviation Administration (FAA), DOT.

ACTION: Supplemental notice of proposed rulemaking (SNPRM).

SUMMARY: The FAA is revising a notice of proposed rulemaking (NPRM) that applied to certain Rolls-Royce Deutschland Ltd & Co KG (RRD) Trent 1000 model turbofan engines. This action revises the NPRM by reopening the comment period because the NPRM was placed in incorrect Docket No. FAA-2021-0637 instead of Docket No. FAA-2021-0662. The FAA is proposing this airworthiness directive (AD) to address the unsafe condition on these products. Since commenters experienced difficulties in commenting on the NPRM, the FAA is requesting comments on this SNPRM.

DATES: The FAA must receive comments on this SNPRM by December 20, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this SNPRM, contact Rolls-Royce plc, Corporate Communications, P.O. Box 31, Derby, DE24 8BJ, United Kingdom; phone: +44 (0)1332 242424; fax: +44 (0)1332 249936; website: https://www.rolls-royce.com/contact-us.aspx. You may view this service information at the FAA, Airworthiness Products Section, Operational Safety Branch, 1200 District Avenue, Burlington, MA 01803. For information on the availability of this material at the FAA, call (781) 238-7759.

Examining the AD Docket

You may examine the AD docket at https://www.regulations.gov by searching for and locating Docket No. FAA-2021-0662; or in person at Docket Operations between 9 a.m. and 5 p.m., Monday through Friday, except Federal holidays. The AD docket contains this SNPRM, the mandatory continuing airworthiness information (MCAI), any comments received, and other information. The street address for Docket Operations is listed above.

FOR FURTHER INFORMATION CONTACT: Kevin Clark, Aviation Safety Engineer, ECO Branch, FAA, 1200 District Avenue, Burlington, MA 01803; phone: (781) 238-7088; fax: (781) 238-7199; email: kevin.m.clark@faa.gov.

SUPPLEMENTARY INFORMATION:

Comments Invited

The FAA invites you to send any written relevant data, views, or arguments about this proposal. Send your comments to an address listed under ADDRESSES. Include “Docket No. FAA-2021-0662; Project Identifier MCAI-2021-00031-E” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Kevin Clark, Aviation Safety Engineer, ECO Branch, FAA, 1200 District Avenue, Burlington, MA 01803. Any commentary that the FAA receives which is not specifically designated as CBI will be placed in the public docket for this rulemaking.

Background

The FAA issued an NPRM to amend 14 CFR part 39 by adding an AD that would apply to RRD Trent 1000-AE3, Trent 1000-CE3, Trent 1000-D3, Trent 1000-G3, Trent 1000-H3, Trent 1000-J3, Trent 1000-K3, Trent 1000-L3, Trent 1000-M3, Trent 1000-N3, Trent 1000-P3, Trent 1000-Q3, and Trent 1000-R3 model turbofan engines. The NPRM published in the Federal Register on August 13, 2021 (86 FR 44655). The NPRM was prompted by reports of high levels of wear on the seal fins on a small number of certain high-pressure turbine triple seals. In the NPRM, the FAA proposed to require manual deactivation of the modulated air system (MAS) control valves.

The European Union Aviation Safety Agency (EASA), which is the Technical Agent for the Member States of the European Community, has issued EASA AD 2021-0009, dated January 8, 2021 (referred to after this as “the MCAI”), to address the unsafe condition on these products. The MCAI states:

The Modulated Air System (MAS) optimises cooling air, extracted from the compressor, where full flow is not required at cruise conditions. It is only active during cruise. Recently, occurrences have been reported of finding high levels of wear on the seal fins on a small number of high pressure turbine triple seals, Part Number FW34485. The effect on the secondary air system was conservatively assessed due to the resultant increased turbine cooling air leakage, which changes the cooling flow around the intermediate pressure (IP) turbine disc.

This condition, if not corrected, could lead to temperature increase at the IP turbine disc rim when the MAS is active, possibly resulting in IP turbine disc failure and high energy debris release, with consequent damage to, and reduced control of, the aeroplane.

To address this potential unsafe condition, Rolls-Royce has issued the NMSB, providing instructions to manually `lock-out' (deactivate) the MAS control valves.

For the reason described above, this [EASA] AD requires to deactivate the MAS control valves. This [EASA] AD also specifies that the Master Minimum Equipment List (MMEL) item for `MAS inoperative', which has a limit of 120 days, does not apply when the system is manually deactivated.

You may obtain further information by examining the MCAI in the AD docket at https://www.regulations.gov by searching for and locating Docket No. FAA-2021-0662.

Actions Since the NPRM Was Issued

Since the FAA issued the NPRM, the FAA determined the NPRM was inadvertently placed in incorrect Docket No. FAA-2021-0637 instead of Docket No. FAA-2021-0662. The FAA received information that the public had difficulty commenting on the NPRM.

Comments

The FAA received comments on the NPRM from two commenters. The following presents the comments received on the NPRM and the FAA's response to each comment.

Request To Revise the Unsafe Condition

The Boeing Company (Boeing) requested the FAA revise paragraph (e), Unsafe Condition, of the NPRM to accurately reflect the effect of the AD on the unsafe condition. Boeing suggested revising paragraph (e) to state “This AD was prompted by reports of high levels of wear on the seal fins on a small number of certain high-pressure turbine (HPT) triple seals. This condition, if not addressed, could lead to temperature increase at the Intermediate Pressure (IP) turbine disk rim when the Modulated Air System (MAS) is active during cruise, possibly resulting in failure of the IP turbine disk, loss of engine thrust control, and loss of the airplane. The FAA is issuing this AD to restore cooling airflow to the IP turbine disk rim during cruise by deactivating MAS.” Boeing reasoned that the AD action to deactivate the MAS does not prevent wear on the HPT triple seal fins. Deactivating the MAS restores cooling airflow to the intermediate-pressure turbine (IPT) disk rim during cruise.

The FAA updated paragraph (e) of this proposed AD by stating, “This AD was prompted by reports of high levels of wear on the seal fins on a small number of certain high-pressure turbine triple seals. The FAA is issuing this AD to ensure cooling airflow restoration to the intermediate-pressure turbine (IPT) disk rim during cruise by deactivating the modulated air system (MAS). The unsafe condition, if not addressed, could result in a temperature increase at the IPT disk rim, when the MAS is active during cruise, resulting in failure of the IPT disk, loss of engine thrust control, and loss of the airplane.”

Request To Correct Part Number Reference

Rolls-Royce notified the FAA that the preamble of the NPRM incorrectly identifies the HPT triple seal part number (P/N) as FW3448, whereas the correct identification is FW34485.

The FAA agrees and has revised the Background section of this proposed AD by correcting the reference to the HPT triple seal P/N from FW3448 to FW34485.

FAA's Determination

This product has been approved by EASA and is approved for operation in the United States. Pursuant to the FAA's bilateral agreement with the European Community, EASA has notified the FAA of the unsafe condition described in the MCAI and service information. The FAA is proposing this AD because the agency evaluated all the relevant information provided by EASA and determined the unsafe condition described previously is likely to exist or develop in other products of the same type design. The public had difficulty commenting on the NPRM. As a result, the FAA has determined that it is necessary to reopen the comment period to provide opportunity for the public to comment on this SNPRM.

Related Service Information Under 1 CFR Part 51

The FAA reviewed Rolls-Royce Alert Non-Modification Service Bulletin Trent 1000 75-AK642, Initial Issue, dated November 30, 2020. The service information specifies procedures for deactivating the MAS control valves. This service information is reasonably available because the interested parties have access to it through their normal course of business or by the means identified in ADDRESSES.

Proposed Requirements in This SNPRM

This proposed AD would require manual deactivation of the MAS control valves. Manual deactivation of the MAS control valves changes the engine to an approved configuration that will produce engine indicating and crew alerting system (EICAS) status messages that do not indicate inoperative (failed) equipment. Consequently, when these messages are displayed, the operator's existing FAA-approved minimum equipment list (MEL) instructions and limitations, including the 120-day operation limitation, do not apply.

Interim Action

The FAA considers this proposed AD would be an interim action. If final action is later identified, the FAA might consider additional rulemaking.

Costs of Compliance

The FAA estimates that this AD, if adopted as proposed, would affect 4 engines installed on airplanes of U.S. registry.

The FAA estimates the following costs to comply with this proposed AD:

Estimated Costs
Action | Labor cost | Parts cost | Cost per product | Cost on U.S. operators
Deactivate the MAS control valves | 2 work-hours × $85 per hour = $170 | $0 | $170 | $680

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Rolls-Royce Deutschland Ltd & Co KG (Type Certificate previously held by Rolls-Royce plc): Docket No. FAA-2021-0662; Project Identifier MCAI-2021-00031-E.

(a) Comments Due Date

The FAA must receive comments on this airworthiness directive (AD) by December 20, 2021.

(b) Affected ADs

None.

(c) Applicability

This AD applies to Rolls-Royce Deutschland Ltd & Co KG (RRD) (Type Certificate previously held by Rolls-Royce plc) Trent 1000-AE3, Trent 1000-CE3, Trent 1000-D3, Trent 1000-G3, Trent 1000-H3, Trent 1000-J3, Trent 1000-K3, Trent 1000-L3, Trent 1000-M3, Trent 1000-N3, Trent 1000-P3, Trent 1000-Q3, and Trent 1000-R3 model turbofan engines.

(d) Subject

Joint Aircraft System Component (JASC) Code 7250, Turbine Section.

(e) Unsafe Condition

This AD was prompted by reports of high levels of wear on the seal fins on a small number of certain high-pressure turbine triple seals. The FAA is issuing this AD to ensure cooling airflow restoration to the intermediate-pressure turbine (IPT) disk rim during cruise by deactivating the modulated air system (MAS). The unsafe condition, if not addressed, could result in a temperature increase at the IPT disk rim when the MAS is active during cruise, resulting in failure of the IPT disk, loss of engine thrust control, and loss of the airplane.

(f) Compliance

Comply with this AD within the compliance times specified, unless already done.

(g) Required Actions

Within the compliance time specified in figure 1 to paragraph (g) of this AD, deactivate the MAS control valves using the Accomplishment Instructions, paragraphs 3.A.(6) and 3.A.(7), of Rolls-Royce Alert Non-Modification Service Bulletin Trent 1000 75-AK642, Initial Issue, dated November 30, 2020.

Note 1 to paragraph (g): Deactivation of the MAS control valves on an engine required by paragraph (g) of this AD changes the engine to an approved configuration that will produce engine indicating and crew alerting system (EICAS) status messages “ENG MAS VALVE L/R” and “ENG MAS SYS TEST L/R.” Since MAS is purposely disabled after compliance with paragraph (g) of this AD, these status messages do not indicate inoperative (failed) equipment and, consequently, the operator's existing FAA-approved minimum equipment list (MEL) instructions and limitations, including the 120-day operation limitation, do not apply.

Note 2 to paragraph (g): Deactivation of the MAS control valves on an engine as required by paragraph (g) of this AD does not produce the EICAS status message “ENG MAS VALVE SENSOR L/R.” Consequently, when this EICAS message displays, it remains indicative of inoperative equipment, even if the MAS has been disabled as required by paragraph (g) of this AD. As a result, the corresponding MEL instructions and limitations apply whenever the EICAS status message “ENG MAS VALVE SENSOR L/R” is displayed.

(h) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the ECO Branch, send it to the attention of the person identified in paragraph (i)(1) of this AD. Information may be emailed to: ANE-AD-AMOC@faa.gov.

(2) Before using any approved AMOC, notify your appropriate principal inspector, or lacking a principal inspector, the manager of the local flight standards district office/certificate holding district office.

(i) Related Information

(1) For more information about this AD, contact Kevin Clark, Aviation Safety Engineer, ECO Branch, FAA, 1200 District Avenue, Burlington, MA 01803; phone: (781) 238-7088; fax: (781) 238-7199; email: kevin.m.clark@faa.gov.

(2) Refer to European Union Aviation Safety Agency (EASA) AD 2021-0009, dated January 8, 2021, for more information. You may examine the EASA AD in the AD docket at https://www.regulations.gov by searching for and locating it in Docket No. FAA-2021-0662.

(3) For service information identified in this AD, contact Rolls-Royce plc, Corporate Communications, P.O. Box 31, Derby, DE24 8BJ, United Kingdom; phone: +44 (0)1332 242424; fax: +44 (0)1332 249936; website: https://www.rolls-royce.com/contact-us.aspx. You may view this referenced service information at the FAA, Airworthiness Products Section, Operational Safety Branch, 1200 District Avenue, Burlington, MA 01803. For information on the availability of this material at the FAA, call (781) 238-7759.

Issued on October 29, 2021.
Lance T. Gant,
Director, Compliance & Airworthiness Division, Aircraft Certification Service.

[FR Doc. 2021-24056 Filed 11-4-21; 8:45 am]

BILLING CODE 4910-13-P